DEPARTMENT OF COMMERCE

National Oceanic and Atmospheric Administration

RIN 0648-XW37

Endangered Species; File No. 10022

AGENCY: National Marine Fisheries Service (NMFS), National Oceanic and Atmospheric Administration (NOAA), Commerce.

ACTION: Notice; issuance of permit modification.

SUMMARY: Notice is hereby given that Raymond Carthy, Department of Wildlife Ecology and Conservation, University of Florida, P.O. Box 110485, Gainesville, FL 23611-0450 has been issued a modification to scientific research Permit No. 10022.

ADDRESSES: The modification and related documents are available for review upon written request or by appointment in the following offices:

Permits, Conservation and Education Division, Office of Protected Resources, NMFS, 1315 East-West Highway, Room 13705, Silver Spring, MD 20910; phone (301) 713-2289; fax (301) 713-0376; and

Southeast Region, NMFS, 263 13th Ave South, St. Petersburg, FL 33701; phone (727) 824-5312; fax (727) 824-5309.

FOR FURTHER INFORMATION CONTACT: Amy Hapeman or Kate Swails, (301) 713-2289.

SUPPLEMENTARY INFORMATION: On September 30, 2009, notice was published in the Federal Register (74 FR 50172) that a modification of Permit No. 10022, issued April 23, 2008 (73 FR 23195), had been requested by the above-named individual. The requested modification has been granted under the authority of the Endangered Species Act of 1973, as amended (ESA; 16 U.S.C. 1531 et seq.) and the regulations governing the taking, importing, and exporting of endangered and threatened species (50 CFR parts 222-226).

Permit No. 10022 authorizes researchers to capture loggerhead (Caretta caretta), green (Chelonia mydas), and Kemp's ridley (Lepidochelys kempii) sea turtles using strike-net or set-net capture techniques off the northwest coast of Florida. Animals may be weighed, measured, photographed, skin biopsied, flipper and passive integrated transponder (PIT) tagged, and released. The modification authorizes the permit holder to use satellite telemetry to assess habitat use of sea turtles and study whether relocation distances for sea turtles captured in relocation trawlers are appropriate. The permit holder may attach transmitters to up to 12 green sea turtles captured by their project by research nets in St. Joseph Bay, Apalachicola Bay, and St. Andrews Bay and attach transmitters to up to 25 green, hawksbill (Eretmochelys imbricata), Kemp's ridley, and loggerhead sea turtles (any combination) already legally captured by relocation trawlers in the St. Andrews Bay area. These animals may also be flipper and PIT tagged, measured, photographed, tissue sampled and weighed before release. The permit is valid through April 30, 2013.

Issuance of this modification, as required by the ESA was based on a finding that such permit (1) was applied for in good faith, (2) will not operate to the disadvantage of such endangered or threatened species, and (3) is consistent with the purposes and policies set forth in section 2 of the ESA.

Dated: May 6, 2010.
P. Michael Payne,
Chief, Permits, Conservation and Education Division, Office of Protected Resources, National Marine Fisheries Service.

[FR Doc. 2010-11338 Filed 5-11-10; 8:45 am]

BILLING CODE 3510-22-S